RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and budget for review and approval.

Summary of Proposal(s)

(1) Collection title: Withholding Certificate for Railroad Retirement Monthly Annuity Payments.

(2) Form(s) submitted: RRB W-4P.

(3) OMB Number: 3220-0149.

(4) Expiration date of current OMB clearance: 8/31/2001.

(5) Type of request: Extension of a currently approved collection.

(6) Respondents: Program planning or management.

(7) Estimated annual number of respondents: 25,000.

(8) Total annual responses: 25,000.

(9) Total annual reporting hours: 1.

(10) Collection description: Under Public Law 98-76, railroad retirement beneficiaries' Tier II, dual vested and supplemental benefits are subject to income tax under private pension rules. Under Public Law 99-514, the non-social security equivalent benefit portion of Tier I is also taxable under private pension rules. The collection obtains the information needed by the Railroad Retirement Board to implement the income tax withholding provisions.

Additional Information or Comments: Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Joe Lackey (202-395-7316), Office of Management and Budget, Room 10230, New Executive Office Building, Washington, DC 20503.

Chuck Mierzwa,
Clearance Officer.

[FR Doc. 01-13653 Filed 5-30-01; 8:45 am]

BILLING CODE 7905-01-M